COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that were furnished by nonprofit agencies employing persons who are blind or have other severe disabilities.

DATES: Comments must be received on or before: January 26, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s): MR 332—Peeler, Corn

Mandatory Source of Supply: Cincinnati Association for the Blind, Cincinnati, OH

Contracting Activity: Defense Commissary Agency

NSN(s)—Product Name(s):

7530-00-926-2122—Folder, File

7530-00-926-2123—Folder, File

Mandatory Source of Supply: Clovernook Center for the Blind and Visually Impaired, Cincinnati, OH

Contracting Activity: STRATEGIC ACQUISITION CENTER, FREDERICKSBURG, VA

NSN(s)—Product Name(s): 6530-01-004-8969—Urinal, Incontinent

Mandatory Source of Supply: The Lighthouse for the Blind, St. Louis, MO

Contracting Activity: STRATEGIC ACQUISITION CENTER, FREDERICKSBURG, VA

NSN(s)—Product Name(s): MR 10694—Berry Box, Includes Shipper 20694

Mandatory Source of Supply: Winston-Salem Industries for the Blind, Inc., Winston-Salem, NC

Contracting Activity: Defense Commissary Agency

NSN(s)—Product Name(s):

7930-00-NIB-0579—Disinfectant PD-128 Cleaner, Intermediate, Broad Spectrum, Concentrated

8125-00-NIB-0032—Spray Bottle, PD-128 Disinfectant Cleaner, 32 oz. Bottle

Mandatory Source of Supply: VisionCorps, Lancaster, PA

Contracting Activity: STRATEGIC ACQUISITION CENTER, FREDERICKSBURG, VA

Services

Service Type: Janitorial/Custodial

Mandatory for: VA Medical Center: Salem Primary Care Clinic, Salem, OR

Mandatory Source of Supply: Garten Services, Inc., Salem, OR

Contracting Activity: VETERANS AFFAIRS, DEPARTMENT OF, 260-NETWORK CONTRACT OFFICE 20

Service Type: Janitorial/Custodial

Mandatory for: Social Security Administration Complex: 5536 Caswell Road, Roth Building, Baltimore, MD

Mandatory Source of Supply: Sinai Hospital of Baltimore (Vocational Services Program), Baltimore, MD

Contracting Activity: SOCIAL SECURITY ADMINISTRATION, SOCIAL SECURITY ADMINISTRATION

Service Type: Duplicating/Copying of Court Documents

Mandatory for: Government Printing Office: 710 North Capitol & H Street, NW, Washington, DC

Mandatory Source of Supply: Alliance, Inc., Baltimore, MD

Contracting Activity: Government Printing Office

Service Type: Cutting and Assembly

Mandatory for: Robins Air Force Base, Robins AFB, GA

Mandatory Source of Supply: Middle Georgia Diversified Industries, Inc., Dublin, GA

Contracting Activity: DEFENSE LOGISTICS AGENCY, DLA AVIATION

Michael R. Jurkowski,
Deputy Director, Business & PL Operations.

[FR Doc. 2019-27911 Filed 12-26-19; 8:45 am]

BILLING CODE 6353-01-P